ENVIRONMENTAL PROTECTION AGENCY

[FRL-7453-2]

Annual Conference on Analysis of Pollutants in the Environment

AGENCY: Environmental Protection Agency (EPA).

ACTION: Announcement of conference.

SUMMARY: The Office of Water's Office of Science and Technology, and Battelle will co-sponsor the “26th Annual Conference on Analysis of Pollutants in the Environment” to discuss all aspects of environmental measurement. The conference is open to the public.

DATES: The annual conference will be held on April 29-30, 2003. On April 29, 2003, the conference will begin at 8:45 a.m. and adjourn at 5:30 p.m. A workshop on “Whole Effluent Toxicity (WET) Testing to Support EPA's Final Rule” will be presented from 3 to 5:30 p.m. On April 30, 2003, the conference will begin at 8:45 a.m. and adjourn at 5 p.m. On May 1, 2003, a public meeting on “Detection and Quantitation” will be held from 10 a.m. to 3 p.m., with a one-hour break from 12 p.m. to 1 p.m.

ADDRESSES: The conference will be held at the Holiday Inn Chicago Mart Plaza Hotel, 350 North Orleans Street, Chicago, Illinois, U.S.A. 60654.

FOR FURTHER INFORMATION CONTACT: Conference and workshop arrangements are being conducted by DynCorp Systems & Solutions LLC. For information on registration, conference fees, hotel rates, reservations, and transportation, please contact Jennifer Maglinao, by e-mail at jennifer.maglinao@DynCorp.com or by telephone at (703) 461-2137. If you have technical questions regarding the conference, workshop, or public meeting, please contact Marion Kelly by e-mail at kelly.marion@epa.gov or by facsimile at (202) 566-1053.

SUPPLEMENTARY INFORMATION: The 26th Annual Conference on Analysis of Pollutants in the Environment is designed to bring together representatives of regulated industries, commercial environmental laboratories, State and Federal regulators, municipal water and wastewater laboratories, and environmental consultants and contractors to discuss all aspects of environmental measurement focusing on environmental water regulations, compliance monitoring, and related issues.

The tentative program topics for the conference follow:

Tuesday, April 29, 2003

Welcome and Opening Remarks.

Update on Analytical Methods in EPA's Wastewater Programs.

Pollutants to be Tested for in EPA's 2004 National Sewage Sludge Survey.

E-Chem, AOAC-International's Methods Database.

Automated Discrete Sample Analyses Applied to Standard Environmental Methods.

Validation of Improved Methods for Fecal Coliforms and Salmonella in Biosolids.

Determination of Cryptosporidium in Water Using Molecular Methods.

Uncertainty in Microbiological Measurements.

Workshop on “Whole Effluent Toxicity (WET) Testing to Support EPA's Final Rule”.

Wednesday, April 30, 2003

Application of the 1600-series Methods to Monitor Trace Metal Levels in South Texas Estuaries.

Determination of Mercury in Ice Cores to Track Earth's Activities.

Application of EPA Method 1631, Revision E, to Routine Low-level Mercury Analyses.

Determination of Arsenic and Selenium Species in Water with a Dynamic Reaction Cell and ICP/MS.

Evaluation of Techniques for Reducing the Reporting Limit for Perchlorate to Sub-ppb Levels.

Establishment of Total Maximum Daily Loads (TMDLs) for PCBs and Other Pollutants in Lakes and Estuaries.

Effect of Various Means of Calculating Dioxin Toxic Equivalents for Non-detected PCB Congeners on Risk Assessment.

A History of Nutrient Excursions Above Ambient Water Quality Criteria in the Great Lakes and Mitigation Strategies, including Total Maximum Daily Loads (TMDLs) and Waste Load Allocations (WLAs).

Determination of Alkylphenol Ethoxylates in Various Matrices.

Determination of Pharmaceuticals Pollutants and Sterols in Water and Biosolids by HPLC/MS/MS.

Determination of Brominated Organics, including PBDDs/PBDFs, PBDEs, and PBBs, in Multi-media Samples by GC/HRMS.

Thursday, May 1, 2003

Public Meeting on EPA's Assessment of Detection and Quantitation Procedures Applied under the Clean Water Act.

EPA's Office of Water recently completed an in-depth assessment of detection and quantitation limit concepts and their application under Clean Water Act programs. The Agency intends to make the results of this assessment available through a public notice to be published in the Federal Register in March 2003. EPA is sponsoring a public meeting to describe this assessment, present the findings, and discuss recommendations. Following presentations by EPA, the public is invited to present comments on the assessment.

Time will be made available to interested parties who send in a formal request to comment by April 5, 2003. Requests must include the commenter's name, organization, address, telephone number, fax number (if applicable), and e-mail address (if applicable). Requests must be sent to: Jennifer Maglinao, DynCorp, 6101 Stevenson Ave., Alexandria, VA 22304-3540. Requests received by April 5, 2003, will be acknowledged and assigned a time slot. Commenters are requested to provide copies of any presentation materials for the public record, and for meeting participants. There is no registration fee to attend the public meeting. For questions, please call Jennifer Maglinao at (703) 461-2137.

This meeting/event will be held in a building which is accessible to persons using wheel chairs and scooters. If you wish to request that other arrangements be made because of your disability in order to enable you to participate or if you have questions about accessibility, please contact Jennifer Maglinao at (703) 461-2137 as soon as possible, but preferably no less than 5 business days before the event is scheduled.

Dated: February 13, 2003.
Pamela Barr,
Acting Director, Office of Science and Technology.

[FR Doc. 03-4247 Filed 2-21-03; 8:45 am]

BILLING CODE 6560-50-P